DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Washington, District of Columbia
Docket No.: FEMA-B-7737
Anacostia River | Approximately at Anacostia Railroad Bridge | +13 | District of Columbia.
| At approximately 200 feet upstream of New York Avenue | +17
Barnaby Run | Approximately at the confluence with Oxon Run | +21 | District of Columbia.
| At approximately 1,200 feet upstream of South Capital and Southern Avenue | +53
Broad Branch | At approximately 2,560 feet upstream of Ridge Road | +102 | District of Columbia.
| At approximately 760 feet upstream of 27th Street | +187
Creek Along Normanstone Drive | At approximately 230 feet downstream of Rock Creek Drive | +40 | District of Columbia.
| At approximately 190 feet upstream of Normanstone Drive | +150
East Creek A | At approximately 2,250 feet downstream of Dalecarlia Parkway | +165 | District of Columbia.
| At approximately 675 feet downstream of Dalecarlia Parkway | +169
East Creek B | Approximately at the Glenbrook Road | +240 | District of Columbia.
| At approximately 760 feet upstream of Driveway Bridge #4 | +308
Fenwick Branch | Approximately at the confluence with Rock Creek | +176 | District of Columbia.
| At approximately 3,620 feet upstream of the confluence with Tributary of Fenwick Branch | +232
Fort Dupont Creek | Approximately 500 feet downstream of Minnesota Avenue Bridge | +23 | District of Columbia.
| At approximately 40 feet downstream of Minnesota Avenue Bridge | +29
Melvin Hazen Branch | Approximately 1,000 feet upstream from Connecticut Avenue NW | +208 | District of Columbia.
| At approximately 125 feet downstream of Reno Road | +244
Oxon Run | At approximately 320 feet upstream of the confluence with Barnaby Run | +23 | District of Columbia.
| At approximately 6,160 feet upstream of Wheeler Road | +103
Pinehurst Run | Approximately at the confluence with Rock Creek | +165 | District of Columbia.
| At approximately 3,100 feet upstream of Oregon Avenue | +255
Pope Branch | At approximately 80 feet upstream of Minnesota Avenue | +45 | District of Columbia.
| Approximately 4,630 feet upstream of Minnesota Avenue | +159
Potomac River | At approximately 500 feet downstream of Route 95 | +9 | District of Columbia.
| At approximately 2,200 feet upstream of Chain Bridge Road | +41
Rock Creek | Approximately at the confluence with Potomac River | +16 | District of Columbia.
| Approximately at the confluence with Fenwick Branch | +176
Tributary to Fenwick Branch | Approximately at the confluence with Fenwick Creek | +191 | District of Columbia.
| At approximately 2,500 feet upstream of the confluence with Fenwick Branch | +231 |
Watts Branch | Approximately at the confluence with Anacostia River | +15 | District of Columbia.
| Approximately at Southern Avenue | +96
* National Geodetic Vertical Datum.
+ North American Vertical Datum.
#Depth in feet above ground.
‸ Mean Sea Level, rounded to the nearest 0.1 meter.
ADDRESSES
District of Columbia
Maps are available for inspection at the Department of the Environment, Watershed Protection Division, 1200 1st Street, Northeast, Washington, DC 20002.

(Catalog of Federal Domestic Assistance No. 97.022, “Flood Insurance.”)

Dated: May 11, 2010.
Sandra K. Knight,
Deputy Federal Insurance and Mitigation Administrator, Mitigation, Department of Homeland Security, Federal Emergency Management Agency.

[FR Doc. 2010-12199 Filed 5-20-10; 8:45 am]

BILLING CODE 9110-12-P